DEPARTMENT OF COMMERCE

National Oceanic and Atmospheric Administration

50 CFR Part 679

[Docket No. 991128352-0012-02; I.D. 011100D]

Fisheries of the Exclusive Economic Zone Off Alaska; Emergency Interim Rule to Implement Major Provisions of the American Fisheries Act: Correction

AGENCY: National Marine Fisheries Service (NMFS), National Oceanic and Atmospheric Administration (NOAA), Commerce.

ACTION: Emergency interim rule; revisions to 2000 harvest specifications; sideboard directed fishing closures; correction.

SUMMARY: This document contains corrections to the emergency interim rule to implement major provisions of the American Fisheries Act (AFA) and revise interim 2000 harvest specifications.

DATES: Effective January 21, 2000.

FOR FURTHER INFORMATION CONTACT: Kent Lind, 907-586-7228.

SUPPLEMENTARY INFORMATION: NMFS manages the groundfish fisheries off Alaska according to the Fishery Management Plans (FMPS) for the Groundfish Fishery of the Bering Sea and Aleutian Islands Area (BSAI) and Groundfish of the Gulf of Alaska (GOA) prepared by the North Pacific Fishery Management Council under the authority of the Magnuson-Stevens Fishery Conservation and Management Act. Regulations governing fishing by U.S. vessels in accordance with the FMPs are at subpart H of 50 CFR part 600 and at 50 CFR part 679.

Correction

In the emergency interim rule, To Implement Major Provisions of the American Fisheries Act, published in the Federal Register on January 28, 2000 (65 FR 4520), FR DOC 00-1832, page 4533, under Table 5—INTERIM 2000 BSAI AFA CATCHER VESSEL (CV) SIDEBOARDS. AMOUNTS ARE EXPRESSED IN METRIC TONS—Continued:

1. In the 3rd column, under “Ratio of 1995-1997 AFA CV catch to 1995-1997 TAC”, remove the fourth entry “0.7291” and add in its place “0.7703”; and in the 5th column, “2000 catcher vessel sideboards”, remove the fourth entry “30,588” and add in its place “32,316”.

2. In Table 5, add the following entry at the end of the table to read as follows:

Table 5.—Interim 200 BSAI AFA Catcher Vessel (CV) Sideboards. Amounts are Expressed in Metric Tons—Continued
Species | Fishery by area/ season/processor/gear | Ratio of 1995-1997 AFA CV catch to 1995-1997 TAC | 2000 Initial TAC | 2000 catcher vessel side- boards
* * * * * * *
Flathead Sole | BS trawl gear | 0.0490 | 44,755 | 2,193

* * * * *

3. In Table 6, the entry “Pollock” and footnote 1 are correctly revised to read as follows:

TABLE 6.—Interim 2000 GOA AFA Catcher Vessel (CV) Sideboards. Amounts are Expressed in Metric Tons
Species | Apportionments and allocations by area/season/processor/gear | Ratio of 1995-1997 AFA CV catch to 1995-1997 TACX | 2000 TAC | 2000 catcher vessel sideboard
Pollock¹ | A Season (W/C areas only) |  |  |
| Shelikof Strait | 0.1672 | 13,991 | 2339
| Shumagin (610) | 0.6238 | 7,498 | 4677
| Chirikof (620) (outside Shelikof) | 0.1262 | 546 | 69
| Kodiak (630) (outside Shelikof) | 0.1984 | 5,325 | 1056
| B Season (W/C areas only) |  |  |
| Shelikof Strait | 0.1672 | 6,996 | 1170
| Shumagin (610) | 0.6238 | 3,749 | 2339
| Chirikof (620) (outside Shelikof) | 0.1262 | 273 | 34
| Kodiak (630) (outside Shelikof) | 0.1984 | 2,662 | 528
| C Season (W/C areas only) |  |  |
| Shumagin (610) | 0.6238 | 11,505 | 7177
| Chirikof (620) | 0.1262 | 6,847 | 864
| Kodiak (630) | 0.1984 | 9,008 | 1787
| D Season (W/C areas only) |  |  |
| Shumagin (610) | 0.6238 | 9,588 | 5981
| Chirikof (620) | 0.1262 | 5,706 | 720
| Kodiak (630) | 0.1984 | 7,506 | 1489
* * * * * * *
¹ Pollock sideboards amounts are based on pollock harvest restrictions implemented under the emergency interim rule published February 25, 2000 (65 FR 3892) that implements Steller sea lion RPA measures for the BSAI and GOA pollock fisheries.

* * * * *

Dated: February 23, 2000.
Andrew A. Rosenberg,
Deputy Asst. Administrator for Fisheries, National Marine Fisheries Service.

[FR Doc. 00-4776 Filed 2-28-00; 8:45 am]

BILLING CODE 3510-22-F